DEPARTMENT OF ENERGY

Federal Energy Regulatory Commission

[Project No. 14775-004]

Marine Renewable Energy Collaborative of New England; Notice Concluding Pre-Filing Process and Approving Process Plan and Schedule

a. Type of Filing: Notice of Intent to File an Application for an Original License for a Hydrokinetic Pilot Project.

b. Project No.: 14775-004.

c. Date Filed: September 7, 2021.

d. Submitted By: Marine Renewable Energy Collaborative of New England (MRECo).

e. Name of Project: Bourne Tidal Test Site.

f. Location: In the Cape Cod Canal near the Town of Bourne, in Barnstable County, MA. The project would occupy land under the jurisdiction of the U.S. Army Corps of Engineers (Corps) and would be in the boundary of the Corps' Cape Cod Canal Navigation Project.

g. Filed Pursuant to: 18 CFR 5.3 and 5.5 of the Commission's regulations.

h. Applicant Contact: Stephen Barrett, Barrett Energy Resources Group, LLC, P.O. Box 1004, Concord, MA 01742; Phone at (339) 234-2696; email at steve@barrettenergygroup.com.

i. FERC Contact: Robert Haltner at (202) 502-8612 or email at robert.haltner@ferc.gov.

j. MRECo has filed with the Commission: (1) a notice of intent to file an application for an original license for a pilot hydrokinetic hydropower project and a draft license application with monitoring plans; (2) a request for waivers of certain Integrated Licensing Process regulations necessary for expedited processing of a license application for a hydrokinetic pilot project; (3) a proposed process plan and schedule; and (4) a request to be designated as the non-Federal representative for section 7 of the Endangered Species Act (ESA) consultation and for section 106 consultation under the National Historic Preservation Act.

k. A notice was issued on September 20, 2021, soliciting comments on the draft license application from agencies and stakeholders. Comments were filed by Federal and State agencies and individuals.

l. On September 20, 2021, MRECo was designated as the non-Federal representative for section 7 consultation under the ESA and for section 106 consultation under the National Historic Preservation Act.

m. The proposed Bourne Tidal Test Site Project would consist of: (1) an existing 56.2-foot-high, 23-foot-wide steel support structure comprised of a platform mounted to three piles embedded in the Cape Cod Canal; (2) an existing vertical turbine mounting pole that is attached to the platform and equipped with an electric lift; (3) a tidal turbine-generator unit that would have a maximum installed capacity of 50 kW; (4) a proposed 50-kW inverter that would be located on the support structure and used to convert the generated power from Direct Current to Alternating Current; (5) an approximately 775-foot-long, 13.2-kilovolt overhead transmission line that would connect the project to the regional grid; (6) a proposed onshore station consisting of a 20-foot-long, 8-foot-wide modular steel structure that would house power control and data management equipment; and (7) appurtenant facilities. A variety of turbine-generators would be tested at the project.

n. The pre-filing process has been concluded and the requisite regulations have been waived such that the process and schedule indicated below can be implemented.

o. The post-filing process will be conducted pursuant to the following schedule. Revisions to the schedule may be made as needed.

Milestones | Dates
Final license application expected | June 8, 2023.
Issue notice of acceptance and ready for environmental analysis and request for interventions | June 23, 2023.
Recommendations, conditions, comments and interventions due | July 23, 2023.
Issue notice of availability of environmental assessment | September 21, 2023.
Issue biological assessment | September 21, 2023.
Comments due and 10(j) resolution, if needed | October 21, 2023.

p. Register online at https://ferconline.ferc.gov/FERCOnline.aspx to be notified via email of new filing and issuances related to this or other pending projects. For assistance, contact FERC Online Support.

Dated: May 8, 2023.
Kimberly D. Bose,
Secretary.

[FR Doc. 2023-10175 Filed 5-11-23; 8:45 am]

BILLING CODE 6717-01-P